DEPARTMENT OF HOUSING AND URBAN DEVELOPMENT

[Docket No. FR-7077-N-15A]

Privacy Act of 1974; System of Records; Correction

AGENCY: Office of Multifamily Housing, HUD.

ACTION: Notice; correction.

SUMMARY: The Department of the Housing and Urban Development (HUD) published a document in the Federal Register of August 28, 2023, a rescindment of a systems of records notice concerning the Integrated Real Estate Management System (iREMS). The document did not contain a comment closing date. This notice establishes a due date of September 27, 2023.

FOR FURTHER INFORMATION CONTACT: LaDonne White; 451 Seventh Street SW, Room 10139; Washington, DC 20410-0001; telephone number 202-708-3054 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

Correction

In the Federal Register of August 28, 2023, in FR Doc 2023-18446, on page 58593, in the third column, add at the end of the Dates caption the following:

Comments Due Date: September 27, 2023.

Aaron Santa Anna,
Associate General Counsel, Office of Legislation and Regulations.

[FR Doc. 2023-18992 Filed 8-31-23; 8:45 am]

BILLING CODE 4210-67-P